FEDERAL COMMUNICATIONS COMMISSION

47 CFR Part 73

[DA 03-1013; MB Docket No. 03-87, RM-10686]

Radio Broadcasting Services; Dilley and Pearsall, TX

AGENCY: Federal Communications Commission.

ACTION: Proposed rule.

SUMMARY: The Commission requests comments on a petition filed by Pearsall RadioWorks, Ltd proposing the reallotment of Channel 237A from Pearsall to Dilley, Texas, and the modification of Station WVWG-FM's license accordingly. Petitioner also requests the allotment of Channel 227A at Pearsall as a replacement service. Channel 237A can be reallotted to Dilley in compliance with the Commission's minimum distance separation requirements with a site restriction of 2.7 kilometers (1.7 miles) east at petitioner's requested site. Additionally, Channel 227A can be allotted to Pearsall with a site restriction of 1.7 kilometers (1.1 miles) west at petitioner's requested site. The coordinates for Channel 237A at Dilley are 28-39-55 North Latitude and 99-08-35 West Longitude; and the coordinates for Channel 227A at Pearsall 28-53-13 North Latitude and 99-06-40 West Longitude. Since Dilley and Pearsall are located within 320 kilometers (199 miles) of the U.S.-Mexican government, concurrence of the Mexican government has been requested. In accordance with section 1.420(i) of the Commission's rules, we will not accept competing expressions of interest for the use of Channel 237A at Dilley, Texas.

DATES: Comments must be filed on or before May 27, 2003, reply comments on or before June 10, 2003.

ADDRESSES: Federal Communications Commission, Washington, DC 20554. In addition to filing comments with the FCC, interested parties should serve the petitioner, or its counsel or consultant, as follows: Harry C. Martin, Esq., Fletcher, Heald & Hildreth, P.L.C,1300 North 17th Street, 11th Floor, Arlington, Virginia 22209 (Counsel for Petitioner).

FOR FURTHER INFORMATION CONTACT: Sharon P. McDonald, Media Bureau, (202) 418-2180.

SUPPLEMENTARY INFORMATION: This is a synopsis of the Commission's notice of proposed rulemaking, MB Docket No. 03-87, adopted April 2, 2003, and released April 4, 2003. The full text of this Commission decision is available for inspection and copying during normal business hours in the FCC Reference Information Center (Room CY-A257), 445 12th Street, SW., Washington, DC. The complete text of this decision may also be purchased from the Commission's copy contractor, Qualex, International, Portals II, 445 12th Street, SW., Room CY-B402, Washington, DC 20054.

Provisions of the Regulatory Flexibility Act of 1980 do not apply to this proceeding.

Members of the public should note that from the time a notice of proposed rulemaking is issued until the matter is no longer subject to Commission consideration or court review, all ex parte contacts are prohibited in Commission proceedings, such as this one, which involve channel allotments. See 47 CFR 1.1204(b) for rules governing permissible ex parte contacts. For information regarding proper filing procedures for comments, see 47 CFR 1.415 and 1.420.

List of Subjects in 47 CFR Part 73

Radio, Radio broadcasting.

For the reasons discussed in the preamble, the Federal Communications Commission proposes to amend 47 CFR part 73 as follows:

PART 73—RADIO BROADCAST SERVICES

1. The authority citation for part 73 continues to read as follows:

Authority: 47 U.S.C. 154, 303, 334 and 336.

§ 73.202 [Amended]

2. Section 73.202(b), the Table of FM Allotments under Texas, is amended by adding Channel 237A at Dilley; by removing Channel 237A; and by adding Channel 227A at Pearsall.

Federal Communications Commission.
John A. Karousos,
Assistant Chief, Audio Division, Media Bureau.

[FR Doc. 03-9170 Filed 4-14-03; 8:45 am]

BILLING CODE 6712-01-P